DEPARTMENT OF AGRICULTURE

Foreign Agricultural Service

Trade Adjustment Assistance for Farmers

AGENCY: Foreign Agricultural Service, USDA.

ACTION: Notice.

The Administrator, Foreign Agricultural Service (FAS), certified five petitions (petition nos. 2011003, 2011012, 2011013, 2011018, and 2011030) for trade adjustment assistance (TAA) for lobster filed under the fiscal year (FY) 2011 program on behalf of lobster producers in Connecticut, Maine, Massachusetts, New Hampshire, and Rhode Island. The Connecticut petition was accepted for review by USDA on August 13, 2010; the Maine petition accepted July 21, 2010; the Massachusetts and New Hampshire petitions accepted August 2, 2010; and the Rhode Island petition accepted August 13, 2010. For programmatic purposes, this Federal Register notice combines all FY 2011 lobster petitions under petition number 2011003.

SUPPLEMENTARY INFORMATION: All petitions were analyzed by USDA's Economic Research Service and reviewed by the TAA for Farmers Program Review Committee, comprised of representatives from USDA's Office of the Chief Economist, Farm Service Agency, Agricultural Marketing Service, and FAS. After a review, the Administrator determined that increased imports of lobster during January-December 2009 contributed importantly to a greater than 15-percent decline in the value of production in 2009, compared to the previous 3-year average. This conforms to the eligibility requirements stipulated in Subtitle C of Title I of the Trade Act of 2002 (Pub. L. 107-210).

Because these petitions met the program's eligibility criteria, the Administrator was able to certify them, making lobster producers in Connecticut, Maine, Massachusetts, New Hampshire, and Rhode Island eligible for trade adjustment assistance in FY 2011. Eligible individual lobster producers in these states may apply for technical training and cash benefits by completing and submitting a written application to their local Farm Service Agency county office by the application deadline of December 23, 2010. After submitting a completed application, producers may receive technical assistance at no cost and cash benefits, if the applicable program eligibility requirements are satisfied. Applicants must complete the technical assistance training under the program in order to be eligible for cash benefits.

Producers Certified as Eligible for TAA for Farmers Contact: Your local USDA Farm Service Agency county office.

For Further General Information Contact: Trade Adjustment Assistance for Farmers Program Staff, Office of Trade Programs, FAS, USDA, at (202) 720-0638 or (202) 690-0633, or by e-mail at: tradeadjustment@fas.usda.gov, or visit the TAA for Farmers' Web site at: http://www.taaforfarmers.org or the FAS Web site at: http://www.fas.usda.gov/itp/taa.

Dated: September 24, 2010.
Suzanne Hale,
Administrator, Foreign Agricultural Service.

[FR Doc. 2010-24819 Filed 10-1-10; 8:45 am]

BILLING CODE 3410-10-P